DEPARTMENT OF ENERGY

Federal Energy Regulatory Commission

[Docket No. CP02-162-000]

Northern Natural Gas Company; Notice of Application

June 13, 2002.

Take notice that on April 18, 2002, Northern Natural Gas Company (Northern), filed in Docket No. CP02-162-000, a request pursuant to Section 7(b) of the Natural Gas Act (NGA), as amended, and the Rules and Regulations of the Federal Energy Regulatory Commission (Commission), requesting permission and approval to abandon service under an individually certificated agreement, all as more fully set forth in the application which is on file with the Commission, and open to public inspection. This filing is available for review at the Commission or may be viewed on the Commission's web site at http://www.ferc.gov using the “RIMS” link, select “Docket #” and follow the instructions (call 202-208-2222 for assistance).

Specifically, Northern proposes to abandon service to Metropolitan Utilities District of Omaha (MUD) under Rate Schedule T-4, contained in its FERC Gas Tariff, Original Volume No. 2. The agreement has terminated pursuant to its terms.

Any questions regarding this application should be directed to Michael W. McGowan, Vice President, Certificates and Reporting for Northern, 111 South 103rd Street, Omaha, Nebraska 68124, at (402)398-7110 or Bret Fritch, Senior Regulatory Analyst, at (402)398-7140.

There are two ways to become involved in the Commission's review of this project. First, any person wishing to obtain legal status by becoming a party to the proceedings for this project should, on or before July 5, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments, protests and interventions may be filed electronically via the Internet in lieu of paper; see 18 CFR 385.2001(a)(1)(iii) and the instructions on the Commission's web site under the “e-Filing” link.

Take further notice that, pursuant to the authority contained in and subject to the jurisdiction conferred upon the Commission by Sections 7 and 15 of the Natural Gas Act and the Commission's Rules of Practice and Procedures, a hearing will be held without further notice before the Commission on this application if no protests or motions to intervene is filed within the time required herein. At that time, the Commission, on its own review of the matter, will determine whether granting the Abandonment is required by the public convenience and necessity. If a petition for leave to intervene is timely filed, or if the Commission on its own motion believes that a formal hearing is required, further notice of such hearing will be duly given.

Under the procedure herein provided for, unless otherwise advised, it will be unnecessary for Northern to appear or be represented at the hearing.

Linwood A. Watson, Jr.,
Deputy Secretary.

[FR Doc. 02-15399 Filed 6-18-02; 8:45 am]

BILLING CODE 6717-01-P